THE COMMISSION OF FINE ARTS

2001 National Capital Arts and Cultural Affairs Program

Notice is hereby given that Public Law 99-190, as amended, authorizing the National Capital Arts and Cultural Affairs Program, has been funded for 2001 in the amount of $7,000,000.00. All requests for information and applications for grants should be received by December 31, 2000 and addressed to: Charles H. Atherton, Secretary, Commission of Fine Arts, National Building Museum, Suite 312, 441 F Street, NW., Washington, DC 20001. Phone: 202-504-2200.

Deadline for receipt of grant applications is March 1, 2001.

This program provides grants for general operating support of organizations whose primary purpose is performing exhibiting, and/or presenting the arts. To be eligible for a grant, organizations must be located in the District of Columbia, must be non-profit, non-academic institutions of demonstrated national repute, and must have annual incomes, exclusive of federal funds, in excess of one million dollars for each of the past three years.

Charles H. Atherton,
Secretary.

[FR Doc. 00-29076 Filed 11-13-00; 8:45 am]

BILLING CODE 6330-01-M